DEPARTMENT OF JUSTICE

[OMB Number 1140-0068]

Agency Information Collection Activities; Proposed eCollection eComments Requested; Police Check Inquiry and Pre-Screening Qualifications Certification

AGENCY: Bureau of Alcohol, Tobacco, Firearms and Explosives, Department of Justice

ACTION: 60-Day notice.

SUMMARY: The Department of Justice (DOJ), Bureau of Alcohol, Tobacco, Firearms and Explosives (ATF), will submit the following information collection request to the Office of Management and Budget (OMB) for review and approval in accordance with the Paperwork Reduction Act of 1995.

DATES: Comments are encouraged and will be accepted for 60 days until October 20, 2014.

FOR FURTHER INFORMATION CONTACT: If you have additional comments especially on the estimated public burden or associated response time, suggestions, or need a copy of the proposed information collection instrument with instructions or additional information, please contact Renee Reid, Chief, Personnel Security Branch at Renee.Reid@atf.gov or Bureau of Alcohol, Tobacco, Firearms and Explosives, 99 New York Avenue NE., Washington, DC 20226.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of this information collection 1140-0068:

1. Type of Information Collection: Revision of an existing collection of information.

2. The Title of the Form/Collection: Police Check Inquiry and Pre-Screening Qualifications Certification.

3. The agency form number, if any, and the applicable component of the Department sponsoring the collection:

Form numbers: ATF Form 8620.42 and ATF Form 8620.62.

Component: Bureau of Alcohol, Tobacco, Firearms and Explosives, U.S. Department of Justice.

4. Affected public who will be asked or required to respond, as well as a brief abstract:

Primary: Individuals or Households.

Other: Business or Other For-Profit.

Abstract: The information requested is necessary to determine if individuals (potential contractors, task force officers, and volunteers) interested in providing services to ATF meet DOJ and ATF basic qualification requirements to be considered for access to ATF information, information technology systems, and/or facilities.

These agency specific requirements include, but are not limited to, residency, citizenship, drug use, financial history, firearms/explosives licensing, criminal history, and conduct qualifications. The revision is modifying ATF Form 8620.62 to conform to DOJ's qualification requirements for non-U.S. citizen contract personnel.

5. An estimate of the total number of respondents and the amount of time estimated for an average respondent to respond: An estimated 1000 respondents will take 5 minutes to complete ATF Form 8620.42 and 1500 respondents will take 7 minutes to complete ATF Form 8620.62.

6. An estimate of the total public burden (in hours) associated with the collection: The estimated annual public burden associated with this collection is 258 hours.

If additional information is required contact: Jerri Murray, Department Clearance Officer, United States Department of Justice, Justice Management Division, Policy and Planning Staff, Two Constitution Square, 145 N Street NE., 3E.405B, Washington, DC 20530.

Dated: August 18, 2014.
Jerri Murray,
Department Clearance Officer for PRA, U.S. Department of Justice.

[FR Doc. 2014-19837 Filed 8-20-14; 8:45 am]

BILLING CODE 4410-FY-P